FARM CREDIT ADMINISTRATION

Farm Credit Administration Board; regular meeting.

AGENCY: Farm Credit Administration.

SUMMARY: Notice is hereby given, pursuant to the Government in the Sunshine Act (5 U.S.C. 552b(e)(3)), of the forthcoming regular meeting of the Farm Credit Administration Board (Board).

DATE AND TIME: The regular meeting of the Board will be held at the offices of the Farm Credit Administration in McLean, Virginia, on August 9, 2001, from 9 a.m. until such time as the Board concludes its business.

FOR FURTHER INFORMATION CONTACT: Kelly Mikel Williams, Secretary to the Farm Credit Administration Board, (703) 883-4025, TDD (703) 883-4444.

ADDRESSES: Farm Credit Administration, 1501 Farm Credit Drive, McLean, Virginia 22102-5090.

SUPPLEMENTARY INFORMATION: Parts of this meeting of the Board will be open to the public (limited space available), and parts of this meeting will be closed to the public. In order to increase the accessibility to Board meetings, persons requiring assistance should make arrangements in advance. The matters to be considered at the meeting are:

Open Session

1. Approval of Minutes—July 12, 2001 (Open)

2. Report—Report on Corporate Approvals

3. New Business

A. Regulation—Loans to Designated Parties (Proposed Rule)

B. Other

—Restructuring Request from North Florida, ACA

—Restructuring Request from Palmetto, ACA

Closed Session ¹

¹ Session closed—Exempt pursuant to 5 U.S.C. 552b(c)(8) and (9).

4. Reports—OSMO Report

Dated: August 3, 2001.
Jeanette C. Brinkley,
Acting Secretary, Farm Credit Administration Board.

[FR Doc. 01-19919 Filed 8-3-01; 2:44 pm]

BILLING CODE 6705-01-P